DEPARTMENT OF COMMERCE

International Trade Administration

Proposed Information Collection; Comment Request; Participant Application, Participant Exit Questionnaire, Alumni Success Story Report

AGENCY: International Trade Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 23, 2017.

ADDRESSES: Direct all written comments to Jennifer Jessup, Departmental Paperwork Clearance Officer, Department of Commerce, Room 6616, 14th and Constitution Avenue NW., Washington, DC 20230 (or via the Internet at PRAcomments@doc.gov).

FOR FURTHER INFORMATION CONTACT: Requests for additional information or copies of the information collection instrument and instructions should be directed to Department of Commerce, International Trade Administration, SABIT, Attn: Tracey Rollins, 1401 Constitution Ave. NW., 20230, (202) 482-0073, tracy.rollins@trade.gov.

SUPPLEMENTARY INFORMATION:

I. Abstract

The Special American Business Internship Training (SABIT) Program of the Department of Commerce's International Trade Administration (ITA), is a key element in the U.S. Government's efforts to support the economic transition of Eurasia (the former Soviet Union) and to support economic growth in other regions of the world, including Pakistan, South Asia, and the Middle East, et al. SABIT develops and implements two- to three-week training programs for groups of up to 20 business and government professionals from Eurasia and other regions. These professionals meet with U.S. government agencies, non-governmental organizations and private sector companies in order to learn about various business practices and principles. This unique private sector-U.S. Government partnership was created in order to tap into the U.S. private sector's expertise and to assist developing regions in their transition to market-based economies while simultaneously boosting trade between the United States and other countries. Participant applications are needed to enable SABIT to find the most qualified participants for the training programs. Participant exit questionnaires provide insight as to what the participants have learned, and they are used to improve the content and administration of future programs. Alumni success story reports track the success of the program as regards to business ties between the U.S. and the countries SABIT covers.

The closing date for participant applications is based upon the starting date of the program and is published with the application, on the program's English-language Web site at www.trade.gov/sabit, and also on the Russian-language Web site at www.sabitprogram.org, if applicable. Pursuant to section 632(a) of the Foreign Assistance Act of 1961, as amended, funding for the programs will be provided by the Agency for International Development (AID).

The SABIT Program has revised the collection instruments. The instruments are very similar to those used by SABIT in past years. However, some wording has been changed to reflect the changing needs of SABIT over time. The changes are relatively minor and most of them are rephrasing of wording. Instructions for filling out the form, methods of submission, and the order of questions have been revised on the Participant Application. These revisions are not expected to increase the response time to complete the instruments.

II. Method of Collection

Participant applications are available for download from the SABIT English and Russian language Web sites at www.trade.gov/sabit and www.sabitprogram.org. Applications may be sent to program candidates via email or fax upon request. Applications are collected via email. Participant exit questionnaires are given to program participants at the completion of programs in by email and are collected by email, although in rare situations, a paper questionnaire may be completed and submitted. Alumni success story reports are used internally by SABIT staff to record success information, but at times they may be sent to alumni to fill out and submit via email or fax.

III. Data

OMB Control Number: 0625-0225.

Form Number(s): ITA-4143P-3.

Type of Review: Regular submission (revision of a currently approved information collection).

Affected Public: Individuals or households; Business or other for-profit organizations.

Estimated Number of Respondents: 3,500.

Estimated Time per Response: Participant application, 3 hours; participant exit questionnaire, 1 hour; alumni success story report, 1 hour.

Estimated Total Annual Burden Hours: 7,000.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental PRA Lead, Office of the Chief Information Officer.

[FR Doc. 2017-17976 Filed 8-23-17; 8:45 am]

BILLING CODE 3510-HE-P